DEPARTMENT OF TRANSPORTATION

Federal Aviation Administration

14 CFR Part 39

[Docket No. 2003-SW-24-AD]

RIN 2120-AA64

Airworthiness Directives; Eurocopter France Model AS355E, F, F1, F2, and N Helicopters

AGENCY: Federal Aviation Administration, DOT.

ACTION: Notice of proposed rulemaking (NPRM).

SUMMARY: This document proposes adopting a new airworthiness directive (AD) for the specified Eurocopter France (Eurocopter) model helicopters. This proposal would revise the Limitations section of the Rotorcraft Flight Manual (RFM) to prohibit using the landing light except for landing and takeoff until the 40 amp 10 P1 and 10P2 contactors are replaced with 50 amp circuit breakers. Also, this proposal would require upgrading the electrical master boxes. This proposal is prompted by three reports of complete loss of electrical power generating systems, except for the direct battery power, due to a combination of high outside temperature and long flight duration with the landing light on that causes the nontemperature compensated trip switches to prematurely trip. The actions specified by the proposed AD are intended to prevent failure of the helicopter power generator systems, loss of the use of flight instruments, and subsequent loss of control of the helicopter.

DATES: Comments must be received on or before November 17, 2003.

ADDRESSES: Submit comments in triplicate to the Federal Aviation Administration (FAA), Office of the Regional Counsel, Southwest Region, Attention: Rules Docket No. 2003-SW-24-AD, 2601 Meacham Blvd., Room 663, Fort Worth, Texas 76137. You may also send comments electronically to the Rules Docket at the following address: 9-asw-adcomments@faa.gov. Comments may be inspected at the Office of the Regional Counsel between 9 a.m. and 3 p.m., Monday through Friday, except Federal holidays.

FOR FURTHER INFORMATION CONTACT: Carroll Wright, Aviation Safety Engineer, FAA, Rotorcraft Directorate, Regulations and Guidance Group, Fort Worth, Texas 76193-0111, telephone (817) 222-5120, fax (817) 222-5961.

SUPPLEMENTARY INFORMATION:

Comments Invited

Interested persons are invited to participate in the making of the proposed rule by submitting such written data, views, or arguments as they may desire. Communications should identify the Rules Docket number and be submitted in triplicate to the address specified above. All communications received on or before the closing date for comments, specified above, will be considered before taking action on the proposed rule. The proposals contained in this document may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their mailed comments submitted in response to this proposal must submit a self-addressed, stamped postcard on which the following statement is made: “Comments to Docket No. 2003-SW-24-AD.” The postcard will be date stamped and returned to the commenter.

Discussion

The Direction Generale De L'Aviation Civile (DGAC), the airworthiness authority for France, notified the FAA that an unsafe condition may exist on the specified Eurocopter model helicopters. The DGAC advises of three reports of complete electrical power failure, except direct battery power, that occurred during flights with high outside air temperature (above 25 degrees Celsius) and use of the landing light for more than 1 hour. The failures were due to the disengagement of 40-ampere (amp) contactors (trip switches MP 1648) in the electrical power systems below their nominal threshold. These trip switches are not temperature compensated and accordingly may trip based on the internal temperature of the electrical master boxes.

Eurocopter has issued Service Telex No. 25.00.63, dated August 2, 2000 (Telex), specifying to not use the landing light outside the landing and takeoff phases and Alert Service Bulletin No. 24.00.14, dated November 28, 2002 (ASB), specifying an upgrade of the electrical master boxes on or before August 1, 2003. The DGAC classified these service bulletins as mandatory and issued AD Nos. 2000-339-060(A), dated August 23, 2000; 2000-339-060(A) R1, dated September 6, 2000; and 2000-339-060(A) R2, dated December 24, 2002, to ensure the continued airworthiness of these helicopters in France.

These helicopter models are manufactured in France and are type certificated for operation in the United States under the provisions of 14 CFR 21.29 and the applicable bilateral airworthiness agreement. Pursuant to this bilateral airworthiness agreement, the DGAC has kept the FAA informed of the situation described above. The FAA has examined the findings of the DGAC, reviewed all available information, and determined that AD action is necessary for products of these type designs that are certificated for operation in the United States.

On July 10, 2002, the FAA issued a new version of 14 CFR part 39 (67 FR 47997, July 22, 2002), which governs the FAA's AD system. The regulation now includes material that relates to altered products, special flight permits, and alternative methods of compliance. Because we have now included this material in part 39, we no longer need to include it in each individual AD.

This previously described unsafe condition is likely to exist or develop on other Eurocopter model helicopters of these same type designs registered in the United States. Therefore, the proposed AD would require temporarily revising the Limitations section of the RFM to prohibit use of the landing light except for landing and takeoff by making pen and ink changes or adding a copy of this AD to the RFM. The proposed AD would also require, within 6 months, or before the next instrument flight rule (IFR) flight, whichever occurs first, replacing nontemperature compensated 40-amp contactors 10P1 and 10P2 with temperature compensated 50-amp circuit breakers. These actions would be required to be accomplished in accordance with the service bulletin described previously.

The FAA estimates that this proposed AD would:

• Affect 442 helicopters of U.S. registry,

• Take ½ work hour per helicopter to add information to the Limitations section of the RFM, and

• Take 4 hours to upgrade the electrical boxes.

The average labor rate is $65 per work hour. The required parts would cost approximately $1707. Based on these figures, the total cost impact of the proposed AD on U.S. operators is estimated to be $883,779.

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Eurocopter France: Docket No. 2003-SW-24-AD.

Applicability: Model AS355E, F, F1, F2, and N helicopters, certificated in any category.

Compliance: Required as indicated, unless accomplished previously.

To prevent failure of the electrical power generating systems, loss of the use of flight instruments, and subsequent loss of control of the helicopter, accomplish the following:

(a) Before further flight and until you replace the circuit breakers in accordance with paragraph (b) of this AD, revise the Limitations section of the Rotorcraft Flight Manual (RFM) to prohibit use of the landing light except for the landing and takeoff phases of flight by making pen and ink changes, or inserting a copy of this AD into the Limitations section of the RFM.

Note 1: Eurocopter France Service Telex 25.00.63, dated August 2, 2000, pertains to the subject of this AD.

(b) Within 6 months or before the next instrument flight rule (IFR) operation, whichever occurs first, upgrade the electrical master boxes and replace the nontemperature compensated 40-amp contactors (circuit breakers) 10P1 and 10P2 with temperature compensated 50-amp circuit breakers, part number P/N 84-306-050 (B) or 5TC50-50 (C), in accordance with the Accomplishment Instructions, paragraph 2.B, of Eurocopter Alert Service Bulletin No. 24.00.14, dated November 28, 2002.

(c) To request a different method of compliance or a different compliance time for this AD, follow the procedures in 14 CFR 39.19. Contact the Manager, Safety Management Group, Rotorcraft Directorate, FAA, for information about previously approved alternative methods of compliance.

Note 2: The subject of this AD is addressed in Direction Generale De L'Aviation Civile (France) ADs 2000-339-060(A) dated August 23, 2000; 2000-339-060(A) R1, dated September 6, 2000; and 2000-339-060(A) R2, dated December 24, 2002.

Issued in Fort Worth, Texas, on September 9, 2003.
Scott A. Horn,
Acting Manager, Rotorcraft Directorate, Aircraft Certification Service.

[FR Doc. 03-23834 Filed 9-17-03; 8:45 am]

BILLING CODE 4910-13-P